DEPARTMENT OF AGRICULTURE

Natural Resources Conservation Service

Record of Decision for the Little Red River Irrigation Project Environmental Impact Statement

AGENCY: Natural Resources Conservation Service, USDA.

ACTION: Record of decision.

SUMMARY: This notice presents the Record of Decision (ROD) regarding the Natural Resources Conservation Service (NRCS) implementation for a Water Management Project located in White County, Arkansas, that provides agricultural water for irrigation, and the enhancement of fish and wildlife habitat. NRCS prepared a Final Plan/Environmental Impact Statement (FPEIS) in cooperation with the Little Red River Regional Irrigation Water District. A Notice of Availability (NOA) of the Little Red River Irrigation Project FPEIS was published in the Federal Register on May 26, 2006, and all agencies and persons on the FPEIS distribution list were notified individually as well. Printed and CD-ROM versions of the FPEIS were made available and delivered to all those who requested. This Decision Notice summarizes the environmental, social, and economic impacts of the Little Red River Irrigation Project alternatives identified in the FPEIS that were considered in making this decision, and explains why NRCS selected the Preferred Alternative—Conservation/Surface Source Alternative—Canals and Pipelines (Alternative 4) for providing supplemental irrigation water and better utilizing the existing water resources while improving the overall environmental quality of the project area.

FOR FURTHER INFORMATION CONTACT: Mr. Kalven Trice, USDA/NRCS Room 3416, Federal Building, 700 West Capitol Avenue, Little Rock, Arkansas 72201, (501) 301-3100 or e-mail: Kalven.Trice@ar.usda.gov.

Record of Decision—Little Red River Irrigation Project; White County, Arkansas

1. Purpose—As state conservationist for the Natural Resources Conservation Service, I am the Responsible Federal Official for all Natural Resources Conservation Service projects in Arkansas.

The recommended plan for the Little Red River Irrigation Project involves works of improvement to be installed by the Natural Resources Conservation Service. This project includes the installation of a pumping station, 38 miles of canal, 41 miles of pipeline, and associated land treatment practices, such as tailwater recovery systems, irrigation storage reservoirs, pumping plants, irrigation pipelines and water control structures.

The Little Red River Irrigation Project plan was prepared as a program neutral plan by the Natural Resources Conservation Service in cooperation with the Little Red River Regional Irrigation Water District. A scoping meeting, held on August 15, 2002, established the Natural Resources Conservation Service (NRCS), U.S. Department of Agriculture, as lead agency, with the Arkansas Natural Resource Commission, Arkansas Game and Fish Commission, Arkansas Natural Heritage Commission, and U.S. Fish and Wildlife Service as contributing agencies.

2. Measures taken to comply with national environmental policies—The Little Red River Irrigation project has been planned in accordance with existing Federal legislation concerned with the preservation of environmental values. The following actions were taken to ensure that the Little Red River Irrigation Project plan is consistent with national goals and polices.

A preliminary environmental evaluation was completed by an interdisciplinary team under the direction of NRCS in 2002 before the scoping meeting. It concluded that significant impacts on the human environment might occur because of the complexity and public interest of the proposed action. As RFO, I directed that a draft environmental impact statement (EIS) be prepared.

The interdisciplinary environmental evaluation of the Little Red River Irrigation project was conducted by NRCS with the assistance of the NRCS National Water Management Center, and with input from the contributing agencies. The interdisciplinary team included engineers, biologists, economists, conservationists, an ecologist, and an environmental specialist. Preliminary alternatives were developed by the interdisciplinary team, with limited input from other local, State and Federal agencies. These preliminary alternatives were presented to the Sponsor, landowners, agencies, environmental groups, and other interested parties at public meetings. Comments, suggestions, and proposed modifications to the alternatives were considered, evaluated, and included, when considered to improve the overall project plan.

Public Meetings were held on July 18, 2002, August 15, 2002, September 4, 2003, and August 17, 2004 to solicit public participation in the environmental evaluation, to assure that all interested parties had sufficient information to understand how their concerns are affected by water resource problems, to afford local interests the opportunity to express their views regarding the plans that can best solve these problems, and to provide all interests an opportunity to participate in the plan selection. More than 50 parties were notified by mail of the joint public meetings. The records of the meetings were developed and are on file.

Testimony and recommendations were received relative to the following subjects:

a. The Little Red River Irrigation Water District was commended for their collaboration efforts with other agencies and organizations, which allowed their interest to be considered during the scoping process.

b. Careful consideration of environmental impacts was requested during identification of the problems and the development of the purpose of the project.

c. Additional financial assistance for more on-farm management, water conservation, water savings and improved rice management techniques was recommended with consideration of eliminating the main pumping station.

d. Alternative funding sources for land retirement and restoration was recommended which would allow farmers to enroll land with critically low water levels into such programs.

e. Development of the Little Red River Irrigation Project as a model project of farm efficiency, irrigation efficiency, profits, and environmental sustainability was recommended.

A draft environmental impact statement was prepared in February 2006 and made available for public review. The recommendations and comments obtained from public meetings held during project planning and assessment were considered in the preparation of the statement. Projects of other agencies were included only when they related to the Little Red River Irrigation project, and they were not evaluated with regard to their individual merit.

More than 40 copies of the draft environmental impact statement were distributed to agencies, conservation groups, organizations, and individuals for comment. The Notice of Availability (NOA) of the draft environmental impact statement was published by the Environmental Protection Agency on March 10, 2006. The comment period ended April 24, 2006. Additional comments received after the comment period have been addressed and filed in the administrative record.

The NOA of the final environmental impact statement was published by the Environmental Protection Agency on May 26, 2006. The waiting period ended on June 26, 2006.

Existing data and information pertaining to the project's probable environmental consequences were obtained from numerous agencies, independent organizations and individuals. The views of interested Federal, State, and local agencies, concerned individuals and organizations were sought. This process continued until the information for a comprehensive, reliable assessment had been gathered.

A complete picture of the project's current and probable future environmental setting was assembled to determine the proposed project's impact and identify unavoidable adverse environmental impacts that might be produced. During this phase of the evaluation, it became apparent that there were differences of opinion and conclusions leading to differing views of the project's environmental impact. After consulting with persons qualified in the appropriate disciplines, the most reasonable scientific theories and conclusions were adopted.

The consequences of a full range of reasonable and viable alternatives to specific project features were considered, studied, and analyzed. In reviewing these alternatives, courses of action that could reasonably accomplish the project purposes were considered. Attempts were made to identify the economic, social, and environmental values affected by each alternative. Both structural and nonstructural alternatives were considered.

The alternatives considered to be reasonable and to accomplish the project's objectives were (1) A surface water diversion (import) alternative, (2) a combination conservation/surface water diversion (import) alternative, utilizing pipeline conveyance, (3) the NED plan—a combination of conservation/surface water diversion (import) alternative utilizing canal and flume conveyance. Other project alternatives analyzed but not fully developed include the “no project” alternative, alternative crops alternative, and cropland “retirement” alternative. These alternatives were eliminated early in the planning process due to economic considerations, physical limitations and/or acceptability concerns. Variations of these alternatives were included in the alternatives selected for final analysis.

3. Conclusion—The following conclusions were reached after carefully reviewing the proposed Little Red River Irrigation Project in light of national goals and policies, particularly those expressed in the National Environmental Policy Act, and after evaluating the overall merit of possible alternatives to the project:

a. The Little Red River Irrigation Project will employ reasonable and practicable means to meet the project's objectives and remain consistent with the National Environmental Policy Act. These means include, but are not limited to, the development of a project planned to minimize adverse effects on the natural environment while accomplishing the authorized project purpose. Project features to preserve existing environmental values for future generations include: (1) Providing a source of agricultural water while conserving ground water resources; (2) implementing on-farm conservation practices that capture runoff, reducing loss of water resources; (3) creating artificial wetlands by constructing surface water storage reservoirs which may be utilized by migrating waterfowl; (4) enhancing 2,650 acres of cropland annually for wintering waterfowl use; (5) enhancing an additional 3,000 acres of wildlife habitat, including wetlands within the Raft Creek Wildlife Management Area; (6) ensuring on-farm operations are in compliance with Section 404 of the Clean Water Act, and that wetlands are avoided to the maximum extent practicable; and (7) mitigating unavoidable losses to wetlands per the guidelines and regulatory statutes of the Clean Water Act, potentially enhancing and/or creating wildlife corridors within the project area.

b. The Little Red River Irrigation Project was planned using a systematic interdisciplinary approach involving integrated uses of the natural, social and environmental sciences. All conclusions concerning the environmental impact of the project and overall merit of existing plans were based on a review of data and information that would be reasonably expected to reveal significant environmental consequences of the proposed project. These data included studies prepared specifically for the project and comments and views of interested Federal, State, and local agencies and individuals. The results of this review constitute the basis for the conclusions and recommendations. The project will not affect any cultural resources eligible for inclusion in the National Register of Historic Places nor will it affect any species of fish, wildlife, or plant or their habitats that have been designated as endangered or threatened.

c. In studying and evaluating the environmental impact of the Little Red River Irrigation Project, every effort was made to express all significant environmental values quantitatively and to identify and give appropriate weight and consideration of non-quantifiable environmental values.

Wherever differences of opinion existed and conclusions led to different views, persons qualified in the appropriate disciplines were consulted. The most reasonable scientific theories and conclusions were adopted.

d. Every possible effort was made to identify those adverse environmental effects that cannot be avoided if the project is constructed.

e. The long-term and short-term resource uses, long-term productivity, and the irreversible and irretrievable commitment of resources are described in the final environmental impact statement.

f. All known reasonable and viable alternatives to project features and to the project itself were studied and analyzed with reference to national policies and goals, especially those expressed in the National Environmental Policy Act and Federal water resource development legislation. Each course of action was evaluated as to its possible economic, technical, social, and overall environmental consequences to determine the tradeoffs necessary to accommodate all national policies and interests. Some alternatives may tend to protect more of the present and tangible environmental amenities than the proposed project will preserve. However, no alternative or combination of alternatives will afford greater protection of the environmental values while accomplishing the other project goals and objectives.

g. I conclude, therefore, that the proposed project is the most effective means of meeting national goals and is consistent in serving the public interest by including provisions to protect and enhance the environment. I also conclude that the recommended plan is the environmentally preferable plan.

4. Recommendations—Having concluded that the proposed Little Red River Irrigation Project uses all practicable means, consistent with other essential considerations of the national policy, to meet the goals established in the National Environmental Policy Act, that the project will thus serve the overall public interest, that the final environmental impact statement has been prepared, reviewed, and accepted in accordance with the provisions of the National Environmental Policy Act as implemented by Departmental regulations for the preparation of environmental impact statements, and that the project meets the needs of the project sponsor, I propose to implement the Little Red River Irrigation Project.

Dated: July 14, 2006.
Kalven L. Trice,
State Conservationist, Natural Resources Conservation Service, U.S. Department of Agriculture.

[FR Doc. E6-11728 Filed 7-21-06; 8:45 am]

BILLING CODE 3410-16-P